DEPARTMENT OF COMMERCE

International Trade Administration

[A-533-838]

Carbazole Violet Pigment 23 From India: Preliminary Results of Antidumping Duty Changed-Circumstances Review

AGENCY: Import Administration, International Trade Administration, Department of Commerce.

SUMMARY: Pursuant to section 751(b) of the Tariff Act of 1930, as amended (the Act), and 19 CFR 351.216 and 351.221(c)(3), the Department of Commerce (the Department) is conducting a changed-circumstances review of the antidumping duty order on carbazole violet pigment 23 from India to determine whether Meghmani Pigments (Meghmani) is the successor-in-interest to Alpanil Industries (Alpanil) for determining antidumping duty liability. Because Meghmani did not respond to the Department's questionnaire, we have preliminarily determined that the use of facts available is appropriate to find that Meghmani is the successor-in-interest to Alpanil. Interested parties are invited to comment on these preliminary results.

DATES: Effective Date: August 30, 2010.

FOR FURTHER INFORMATION CONTACT: Jerrold Freeman or Richard Rimlinger, AD/CVD Operations, Office 5, Import Administration, International Trade Administration, U.S. Department of Commerce, 14th Street and Constitution Avenue, NW., Washington, DC 20230; telephone: (202) 482-0180 or (202) 482-4477, respectively.

SUPPLEMENTARY INFORMATION:

Background

On December 11, 2009, the Department was notified by Alpanil that, on April 9, 2009, Alpanil's name was officially changed to Meghmani Pigments. In addition to a brief narrative explaining that there was no change in company ownership, management, production, office or factory location, employees, customers, or suppliers, a copy of “Form G” from the Gujurat State Registar of Firms was attached to demonstrate a record of all corporate changes for Alpanil/Meghmani since the incorporation of Alpanil in 1992. This attachment indicates that Alpanil's name change to Meghmani was recorded on April 9, 2009.

On March 9, 2010, in accordance with section 751(b) of the Act, 19 CFR 351.216, and 19 CFR 351.221(c)(3), we published in the Federal Register a notice of initiation of an antidumping duty changed-circumstances review. See Carbazole Violet Pigment 23 from India: Initiation of Antidumping Duty Changed-Circumstances Review, 75 FR 10759 (March 9, 2010) (Initiation). In this notice we indicated that we would conduct the changed-circumstances review in the context of the administrative review of the order covering the period December 1, 2008, through November 30, 2009.

On April 5, 2010, Meghmani withdrew its request for a review of its sales of merchandise subject to the antidumping duty order for the 2008/09 period in a timely manner. Therefore, in accordance with 19 CFR 351.213(d)(1), we rescinded the 2008/09 review with respect to CVP 23 from India produced and/or exported by Meghmani. See Carbazole Violet Pigment 23 from India: Rescission of Administrative Review, 75 FR 25209 (May 7, 2010). In the notice we indicated that, in accordance with 19 CFR 351.216(e), we intend to “issue final results of the changed-circumstances review within 270 days after the date on which we initiated the changed-circumstances review.” See 75 FR at 25210.

On June 3, 2010, we sent a questionnaire to Meghmani requesting further information on the nature of the name change and whether additional changes had occurred. Although we granted Meghmani an extension of the deadline to respond, Meghmani did not respond to our questionnaire. Instead, on July 6, 2010, Meghmani notified the Department that it will not participate in the changed-circumstances review. Meghmani did not provide any reasons for its decision to withdraw its participation from the changed-circumstances review.

Since the initiation of the review, no other interested party has submitted comments.

Scope of the Order

The merchandise subject to the order is carbazole violet pigment 23 identified as Color Index No. 51319 and Chemical Abstract No. 6358-30-1, with the chemical name of diindolo [3,2-b:3′,2′-m] ¹ triphenodioxazine, 8,18-dichloro-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the order. The merchandise subject to the order is classifiable under subheading 3204.17.90.40 of the Harmonized Tariff Schedule of the United States (HTSUS). Although the HTSUS subheading is provided for convenience and customs purposes, the written description of the scope of the order is dispositive.

¹ The bracketed section of the product description, [3,2-b:3′,2′-m], is not business-proprietary information. In this case, the brackets are simply part of the chemical nomenclature.

Use of Adverse Facts Available

For the reason discussed below, we determine that the use of adverse facts available is appropriate for the preliminary results of the changed-circumstances review with respect to Meghmani.

A. Use of Facts Available

Section 776(a)(2) of the Act provides that, if an interested party withholds information requested by the administering authority, fails to provide such information by the deadlines for submission of the information and in the form or manner requested, significantly impedes a proceeding under this title, or provides such information but the information cannot be verified as provided in section 782(i) of the Act, the Department shall use facts otherwise available in reaching the applicable determination.

Because Meghmani did not respond to our June 3, 2010, questionnaire, pursuant to sections 776(a)(2)(A) and (B) of the Act, we must rely entirely on facts available.

B. Application of Adverse Inferences for Facts Available

In selecting among the facts otherwise available, section 776(b) of the Act provides that, if the Department finds that an interested party has failed to cooperate by not acting to the best of its ability to comply with a request for information, the Department may use an inference adverse to the interests of that party. In addition, the Statement of Administrative Action accompanying the Uruguay Round Agreements Act, H.R. Rep. 103-316, Vol. 1, 103d Cong. (1994), reprinted in 1994 U.S.C.C.A.N. 4040 (SAA), establishes that the Department may employ an adverse inference “to ensure that the party does not obtain a more favorable result by failing to cooperate than if it had cooperated fully.” See SAA at 870. The SAA also instructs the Department to consider, in employing adverse inferences, “the extent to which a party may benefit from its own lack of cooperation.” Id. Moreover, “affirmative evidence of bad faith on the part of a respondent is not required before the Department may make an adverse inference.” See Antidumping Duties; Countervailing Duties, Final Rule, 62 FR 27296, 27340 (May 19, 1997).

We find that, by failing completely to respond to our questionnaire in the changed-circumstances review concerning its name change, Meghmani withheld requested information and thus failed to cooperate to the best of its ability and, therefore, we may use an inference that is adverse to the interests of Meghmani.

C. Selection of Information Used as Facts Available

Where the Department applies an adverse inference because a respondent failed to cooperate by not acting to the best of its ability to comply with a request for information, section 776(b) of the Act authorizes the Department to rely on information derived from the petition, a final determination, a previous administrative review, or other information placed on the record. See also 19 CFR 351.308(c) and the SAA at 870.

Because we are making an adverse inference with regard to Meghmani based on the most recent information at our disposal, we preliminarily find that Meghmani is the successor-in-interest to Alpanil. In making the adverse inference, we have relied on the information placed on the record by Meghmani to determine that Meghmani is the successor-in-interest to Alpanil. See section 776(b) of the Act.² If we were to find that Meghmani is not the successor-in-interest to Alpanil, that would ensure that Meghmani would “obtain a more favorable result by failing to cooperate” because the all-others rate of 27.48 percent for the antidumping duty order would apply to Meghmani which is significantly lower than Alpanil's current rate of 58.90 percent. Accordingly, we preliminarily determine that Meghmani is the successor-in-interest to Alpanil and will assign to Meghmani the same treatment as Alpanil with respect to the antidumping duty proceeding.

² Because the information upon which we are relying was obtained in the course of the review and is not secondary information, corrobation of this information is not necessary. See section 776(c) of the Act.

Public Comment

Case briefs from interested parties may be submitted not later than 15 days after the date of publication of this notice of preliminary results of changed-circumstances review. See 19 CFR 351.309(c)(1)(ii). Rebuttal briefs from interested parties, limited to the issues raised in the case briefs, may be submitted not later than five days after the time limit for filing the case briefs or comments. Parties who submit case briefs or rebuttal briefs in this proceeding are requested to submit with each argument a statement of the issue, a summary of the arguments not exceeding five pages, and a table of statutes, regulations, and cases cited.

Interested parties who wish to request a hearing or to participate in a hearing if a hearing is requested must submit a written request to the Assistant Secretary for Import Administration within 15 days of the date of publication of this notice. See 19 CFR 351.310(c). Such requests should contain the following information: (1) The party's name, address, and telephone number; (2) the number of participants; (3) a list of issues to be discussed. Issues raised in the hearing will be limited to those discussed in the case briefs. If requested, any hearing will be held two days after the scheduled date for submission of rebuttal briefs.

The Department will publish in the Federal Register a notice of the final results of this changed-circumstances review, including the results of its analysis of issues raised in any written briefs or at the hearing if requested.

As indicated in the Initiation, during the course of this changed-circumstances review we will not change any cash-deposit requirements on entries of merchandise subject to the antidumping duty order unless a change is determined to be warranted pursuant to the final results of this changed-circumstances review.

We are issuing and publishing these preliminary results and notice in accordance with sections 751(b) and 777(i)(1) of the Act and 19 CFR 351.216.

Dated: August 23, 2010.
Ronald K. Lorentzen,
Deputy Assistant Secretary for Import Administration.

[FR Doc. 2010-21577 Filed 8-27-10; 8:45 am]

BILLING CODE 3510-DS-P